DEPARTMENT OF HEALTH AND HUMAN SERVICES

Substance Abuse and Mental Health Services Administration

Center for Mental Health Services; Notice of Meeting

Pursuant to Public Law 92-463, notice is hereby given that the Substance Abuse and Mental Health Services Administration's (SAMHSA) Center for Mental Health Services (CMHS) National Advisory Council will meet April 15, 2015, 9:00 a.m. to 5:00 p.m.

The meeting is open to the public as determined by the SAMHSA Administrator, in accordance with Title 5 U.S.C. 552b(c)(9)(b) and 5 U.S.C. App. 2, Section 10(d). The meeting will include discussion of the Center's policy issues, and current administrative, legislative, and program developments. The meeting will be held at the SAMHSA building, 1 Choke Cherry Road, Rockville, MD 20850. Attendance by the public will be limited to space available. Interested persons may present data, information, or views, orally or in writing, on issues pending before the Council. Written submissions should be forwarded to the contact person on or before April 6, 2015. Oral presentations from the public will be scheduled at the conclusion of the meeting. Individuals interested in making oral presentations are encouraged to notify the contact on or before April 6, 2015. Five minutes will be allotted for each presentation.

The meeting may be accessed via telephone and web conferencing will be available. To attend on site; obtain the call-in number, access code, and/or Web access link; submit written or brief oral comments; or request special accommodations for persons with disabilities, please register on-line at: http://nac.samhsa.gov/Registration/meetingsRegistration.aspx, or communicate by contacting the CMHS National Advisory Council Designated Federal Officer, Ms. Deborah DeMasse-Snell (see contact information below).

Substantive program information may be obtained after the meeting by accessing the SAMHSA Council Web site at: http://nac.samhsa.gov/, or by contacting the Designated Federal Officer.

Committee Name: SAMHSA's Center for Mental Health Services National Advisory Council.

Date/Time/Type: April 15, 2015, 9:00 a.m.-5:00 p.m. (EDT) OPEN.

Place: SAMHSA Building, 1 Choke Cherry Road, Seneca Conference Room, Rockville, Maryland 20850.

Contact: Deborah DeMasse-Snell, M.A. (Than), Designated Federal Officer, SAMHSA CMHS National Advisory Council, 1 Choke Cherry Road, Room 6-1084, Rockville, Maryland 20857 (mail), Telephone: (240) 276-1861, Fax: (240) 276-1850, Email: Deborah.DeMasse-Snell@samhsa.hhs.gov.

Summer King,
Statistician, SAMHSA.

[FR Doc. 2015-05810 Filed 3-13-15; 8:45 am]

BILLING CODE 4162-20-P